DEPARTMENT OF ENERGY

Federal Energy Regulatory Commission

[Docket Nos. RP01-76-006, RP01-382-010, RP01-396-004, RP00-404-004 (Not Consolidated)]

Northern Natural Gas Company; Notice of Compliance Filing

March 22, 2002.

Take notice that on March 14, 2002, Northern Natural Gas Company (Northern), tendered for filing as part of its FERC Gas Tariff, Fifth Revised Volume No. 1, the following tariff sheet proposed to be in effect January 1, 2002:

Second Substitute 27 Revised Sheet No. 52

Northern states that it is refiling Tariff Sheet No. 52 to reflect the correct Market Area Winter TI Rate as an erroneous rate was filed on March 1.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-7458 Filed 3-27-02; 8:45 am]

BILLING CODE 6717-01-P